ENVIRONMENTAL PROTECTION AGENCY

[OPP-2004-0252, FRL-7839-6]

Agency Information Collection Activities; Submission to OMB; Comment Request; EPA ICR No. 0596.08; OMB Control No. 2070-0032; Application and Summary Report for an Emergency Exemption for Pesticides

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Application and Summary Report for an Emergency Exemption for Pesticides; EPA ICR No. 0596.08; OMB Control No. 2070-0032. The ICR, which is abstracted below, describes the nature of the information collection activity and its expected burden and costs.

DATES: Additional comments may be submitted on or before December 22, 2004.

FOR FURTHER INFORMATION CONTACT: Cameo Smoot, Field and External Affairs Division (7506C), Office of Pesticide Programs, Environmental Protection Agency, 1200 Pennsylvania Ave., NW., Washington, DC 20460; telephone number: (703) 305-5454; fax number: (703) 305-5884; e-mail address: smoot.cameo@epa.gov.

ADDRESSES: Submit your comments, referencing docket ID number OPP-2004-0252 , to (1) EPA online using EDOCKET (our preferred method), by e-mail to opp-docket@epa.gov, or by mail to: Public Information and Records Integrity Branch (PIRIB), Office of Pesticide Programs (OPP), Environmental Protection Agency, Mailcode: 7502C, 1200 Pennsylvania Ave., NW., Washington, DC, 20460, and (2) OMB at: Office of Information and Regulatory Affairs, Office of Management and Budget (OMB), Attention: Desk Officer for EPA, 725 17th Street, NW., Washington, DC 20503.

SUPPLEMENTARY INFORMATION: EPA has submitted the following ICR to OMB for review and approval according to the procedures prescribed in 5 CFR 1320.12. The Federal Register document, required under 5 CFR 1320.8(d), soliciting comments on this collection of information was published on August 27, 2004 (69 FR 52664). EPA received one comment in response to that notice during the 60-day comment period and has addressed it in the ICR.

EPA has established a public docket for this ICR under Docket ID No. OPP-2004-0252, which is available for public viewing at the Public Information and Records Integrity Branch (PIRIB), Rm. 119, Crystal Mall #2, 1801 Bell St., Arlington, VA. This docket facility is open from 8:30 a.m. to 4 p.m., Monday through Friday, excluding legal holidays. The docket telephone number is (703) 305-5805. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. Please note, EPA's policy is that public comments, whether submitted electronically or on paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

ICR Title: Application and Summary Report for an Emergency Exemption for Pesticides.

ICR Status: This is a request for extension of an existing approved collection that is currently scheduled to expire on November 30, 2004. EPA is asking OMB to approve this ICR for three years. Under OMB regulations at 5 CFR 1320.12(b)(2), the Agency may continue to conduct or sponsor the collection of information while the submission is pending at OMB.

Abstract: Section 18 of the Federal Insecticide, Fungicide, and Rodenticide Act (FIFRA) authorizes EPA to grant emergency exemptions to State, U.S. Territorial and Federal agencies to allow an unregistered use of a pesticide for a limited time if EPA determines that emergency conditions exist, whether use of the pesticide under the exemption will be protective of human health and the environment, and to evaluate the effectiveness of the requested product in allaying the emergency. This data collection program is designed to provide EPA with necessary data to evaluate an application for a permit for the temporary shipment and use of a pesticide product for an unregistered use to mitigate an emergency situation and to evaluate the effectiveness of that product in allaying the emergency. State, U.S. Territorial, and Federal agencies submit applications for section 18 emergency exemptions at their discretion in accordance with 40 CFR part 166. After EPA has granted a section 18 emergency exemption to a given government agency, the requesting agency must submit to EPA information related to any unexpected adverse effects resulting from the use of the pesticide and a report summarizing the results of the pesticide use. These government agencies must also maintain records for all treatments involving the first food use of a pesticide and make them available to EPA upon request.

Burden Statement: The annual “respondent” burden for this ICR is estimated to be 99 hours per response. According to the Paperwork Reduction Act, “burden” means the total time, effort, or financial resources expended by persons to generate, maintain, retain, or disclose or provide information to or for a Federal agency. For this collection, it is the time reading the regulations, planning the necessary data collection activities, conducting tests, analyzing data, generating reports and completing other required paperwork, and storing, filing, and maintaining the data. The agency may not conduct or sponsor, and a person is not required to respond to, a collection of information unless it displays a currently valid OMB control number. The OMB control number for this information collection appear at the beginning and the end of this document. In addition OMB control numbers for EPA's regulations, after initial display in the final rule, are listed in 40 CFR part 9.

The following is a summary of the burden estimates taken from the ICR:

Respondents/affected entities: State Agency, U.S. Territory, or Federal Agency.

Estimated total number of potential respondents: 50.

Frequency of response: On occasion.

Estimated total/average number of responses for each respondent: 10.

Estimated total annual burden hours: 49,500.

Estimated total annual labor costs: $2,683,000.

Changes in the ICR Since the Last Approval: The annual burden has decreased from 59,400 to 49,500 hours due to the drop in the overall number of section 18 emergency exemption applications filed annually, from 600 for the period 1998-2000 to approximately 500 for the period 2001-2003. The 9,900 hour decrease in annual burden reflects an adjustment to the estimated annual burden for this ICR.

Dated: November 9, 2004.
Oscar Morales,
Director, Collection Strategies Division.

[FR Doc. 04-25821 Filed 11-19-04; 8:45 am]

BILLING CODE 6560-50-P